DEPARTMENT OF VETERANS AFFAIRS

[OMB Control No. 2900-0156]

Proposed Information Collection (Notice of Change in Student Status) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of currently approved collection, and allow 60 days for public comment in response to the notice. This notice solicits comments for information needed to report changes in students' enrollment status.

DATES: Written comments and recommendations on the proposed collection of information should be received on or before January 3, 2012.

ADDRESSES: Submit written comments on the collection of information through the Federal Docket Management System (FDMS) at http://www.Regulations.gov or to Nancy J. Kessinger, Veterans Benefits Administration (20M35), Department of Veterans Affairs, 810 Vermont Avenue NW., Washington, DC 20420 or email to nancy.kessinger@va.gov. Please refer to “OMB Control No. 2900-0156” in any correspondence. During the comment period, comments may be viewed online through FDMS.

FOR FURTHER INFORMATION CONTACT: Nancy J. Kessinger at (202) 461-9769 or fax (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles: Notice of Change in Student Status, VA Form 22-1999b.

OMB Control Number: 2900-0156.

Type of Review: Extension of a currently approved collection.

Abstract: Educational institutions use VA Form 22-1999b to report a student's enrollment status. Benefits are not payable when a student interrupts or terminates a program. VA uses the information to determine a student's continued entitlement to educational benefits or if the benefits should be increased, decreased, or terminated.

Affected Public: Business or other for-profit, and Not-for-profit institutions.

Estimated Annual Burden:

a. VA Form 22-1999b (Paper Copy)—16,667 hours.

b. VA Form 22-1999b (Electronically Filed)—35,000 hours.

Estimated Average Burden per Respondent:

a. VA Form 22-1999b (Paper Copy)—10 minutes.

b. VA Form 22-1999b (Electronically Filed)—7 minutes.

Frequency of Response: On occasion.

Estimated Total Number of Responses Annually:

a. VA Form 22-1999b (Paper Copy)—100,000.

b. VA Form 22-1999b (Electronically Filed)—300,000.

Dated: October 26, 2011.
By direction of the Secretary.
Denise McLamb,
Program Analyst, Enterprise Records Service.

[FR Doc. 2011-28153 Filed 10-31-11; 8:45 am]

BILLING CODE 8320-01-P